DEPARTMENT OF THE INTERIOR

National Park Service

[NPS-WASO-NAGPRA-16148; PPWOCRADN0-PCU00RP14.R50000]

Notice of Inventory Completion: Bishop Museum, Honolulu, HI

AGENCY: National Park Service, Interior.

ACTION: Notice.

SUMMARY: The Bishop Museum has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Bishop Museum. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Bishop Museum at the address in this notice by August 27, 2014.

ADDRESSES: Noa Dettweiler, Bishop Museum, 1525 Bernice Street Honolulu, HI 96817, telephone (808) 847-8216, email noa@bishopmuseum.org.

SUPPLEMENTARY INFORMATION: Notice is here given in accordance with the Native American Graves Protection and Repatriation Act (NAGPRA), 25 U.S.C. 3003, of the completion of an inventory of human remains under the control of the Bishop Museum, Honolulu, HI. The human remains were removed from Nu`alolo Kai, Kauai Island, HI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Bishop Museum professional staff in consultation with representatives of Hui Malama I Na Kupuna O Hawai`i Nei, and the Na Pali Coast `Ohana.

History and Description of the Remains

In 1964, 40 small fragments of apparent human remains representing, at minimum, three individuals were removed from Nu`alolo Kai on the island of Kauai, HI, by Bishop Museum archeologist Dr. Kenneth P. Emory and staff. Permission to excavate on state lands was granted by the State of Hawaii Board of Land and Natural Resources (BLNR); however, control of the excavated materials was to be kept by the state. The Bishop Museum has recently been granted permission to move forward with the repatriation process by the BLNR.

The remains were excavated from a Native Hawaiian habitation and worksite at Nu`alolo Kai on the island of Kauai in an area designated as Hawaii State Site No. 50-30-01-196. University of Hawai`i publications indicate that a burial was encountered in Feature K5, although it is unclear from Bishop Museum field notes if the human remains listed in this notice are from this particular burial. The bones were originally thought to be from animals, but subsequent studies have indicated they are more likely to be human remains. No known individuals were identified. No associated funerary objects are present.

Nu`alolo Kai is located in a valley on the northwestern side of the island of Kauai. Radiocarbon dating suggests the site was inhabited from around A.D. 1400 until the nineteenth century.

Determinations Made by the Bishop Museum

Officials of the Bishop Museum have determined that:

• Pursuant to 25 U.S.C. 3001(9), the human remains described in this notice represent the physical remains of at least three individuals of Native American ancestry.

• Pursuant to 25 U.S.C. 3001(2), there is a relationship of shared group identity that can be reasonably traced between the Native American human remains and the Na Pali Coast `Ohana.

Additional Requestors and Disposition

Lineal descendants or representatives of any Indian tribe or Native Hawaiian organization not identified in this notice that wish to request transfer of control of these human should submit a written request with information in support of the request to Noa Dettweiler, Bishop Museum, 1525 Bernice Street, Honolulu, HI 96817, telephone (808) 847-8216, email noa@bishopmuseum.org, by August 27, 2014. After that date, if no additional requestors have come forward, transfer of control of the human remains to the Na Pali Coast `Ohana may proceed.

The Bishop Museum is responsible for notifying Hui Malama I Na Kapuna O Hawai`i Nei and the Na Pali Coast `Ohana that this notice has been published.

David Tarler,
Acting Manager, National NAGPRA Program.

[FR Doc. 2014-17731 Filed 7-25-14; 8:45 am]

BILLING CODE 4312-50-P